DEPARTMENT OF THE INTERIOR

National Park Service

Notice of Inventory Completion: Bishop Museum, Honolulu, HI

AGENCY: National Park Service, Interior.

ACTION: Notice.

Notice is here given in accordance with the Native American Graves Protection and Repatriation Act (NAGPRA), 25 U.S.C. 3003, of the completion of an inventory of human remains in the possession and control of Bishop Museum, Honolulu, HI. The human remains were removed from multiple locations on the island of Kauai, HI.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by Bishop Museum professional staff in consultation with representatives of Hui Malama I Na Kupuna O Hawaii Nei and Kauai Island Burial Council.

In 1949, two bags of human bone representing a minimum of one individual were collected by Tiare Emory and Rebecca Banks from Milolii, Napali, Kauai, HI. No known individual was identified. No associated funerary objects are present.

In 1949, one human tooth and one bag of possible human bone fragments representing a minimum of one individual were collected by Tiare Emory and Rebecca Banks possibly from Canoe Shed Cave, Hanalei, Kauai, HI. No known individual was identified. No associated funerary objects are present.

In 1955, Bishop Museum received two human teeth representing a minimum of one individual collected by George F. Arnemann from archeology site 50-Ka-C07-001, Haeleele, Kauai, HI. No known individual was identified. No associated funerary objects are present.

In 1955, one human tooth representing a minimum of one individual was collected during a Bishop Museum and University of Hawaii-Manoa field school project by Bishop Museum staff from Haeleele Shelter (archeology site 50-Ka-C07-001), Kauai, HI. No known individual was identified. No associated funerary objects are present.

In 1967, one human tooth and one human tooth fragment representing a minimum of one individual were found among midden at Moir's Garden, Koloa, Kauai, HI, by Bishop Museum staff. No known individual was identified. No associated funerary objects are present.

In 2002, three human teeth representing a minimum of one individual were found in the Bishop Museum collections from an unknown area of Kauai, HI. No known individual was identified. No associated funerary objects are present.

Officials of the Bishop Museum have determined that, pursuant to 25 U.S.C. 3001 (9-10), the human remains described above represent the physical remains of a minimum of six individuals of Native Hawaiian ancestry. Officials of the Bishop Museum also have determined that, pursuant to 25 U.S.C. 3001 (2), there is a relationship of shared group identity that can be reasonably traced between the Native Hawaiian human remains and Hui Malama I Na Kupuna O Hawaii Nei.

Representatives of any other Native Hawaiian organization that believes itself to be culturally affiliated with the human remains should contact Betty Lou Kam, Vice-President, Cultural Resources, Bishop Museum, 1525 Bernice Street, Honolulu, HI 96817, telephone (808) 848-4144, before September 12, 2007. Repatriation of the human remains to Hui Malama I Na Kupuna O Hawaii Nei will proceed after that date if no additional claimants come forward.

The Bishop Museum is responsible for notifying Hui Malama I Na Kupuna O Hawaii Nei and Kauai Island Burial Council that this notice has been published.

Dated: July 13, 2007
Sherry Hutt,
Manager, National NAGPRA Program.

[FR Doc. E7-15822 Filed 8-10-07; 8:45 am]

BILLING CODE 4312-50-S